DEPARTMENT OF COMMERCE

National Oceanic and Atmospheric Administration

RIN 0648-XZ29

Notice of Rescission of NOAA Policy on Prohibited and Approved Uses of the Asset Forfeiture Fund

AGENCY: National Marine Fisheries Service (NMFS), National Oceanic and Atmospheric Administration (NOAA), Commerce.

ACTION: Notice.

SUMMARY: The National Oceanic and Atmospheric Administration (NOAA) announces the rescission of its previously published NOAA Policy on Prohibited and Approved Uses of the Asset Forfeiture Fund.

FOR FURTHER INFORMATION CONTACT: Brian T. Pawlak, 301-427-8720.

SUPPLEMENTARY INFORMATION: On March 23, 2011 (76 FR 16386), NOAA published in the Federal Register its Policy on Prohibited and Approved Uses of the Asset Forfeiture Fund. That Policy articulated the prohibited and approved uses of asset forfeiture funds to ensure that no conflict of interest—either real or perceived—could be associated with its use while continuing to promote a sound enforcement program dedicated to conserving and protecting our nation's marine resources. NOAA has recently revised its Policy on Prohibited and Approved Uses of the Asset Forfeiture Fund; therefore, this serves as Notice of the rescission of the NOAA Policy published on March

23, 2011. A copy of NOAA's revised Policy on Prohibited and Approved Uses of the Asset Forfeiture Fund can be found at: http://www.nmfs.noaa.gov/ole/index.html.

Authority: 16 U.S.C. 1801 et seq.

Dated: July 10, 2015.
Paul N. Doremus,
Deputy Assistant Administrator for Operations, National Marine Fisheries Service.

[FR Doc. 2015-17356 Filed 7-14-15; 8:45 am]

BILLING CODE 3510-22-P